SECURITIES AND EXCHANGE COMMISSION

In the Matter of Internal Fixation Systems, Inc., File No. 500-1; Order of Suspension of Trading

August 18, 2015.

It appears to the Securities and Exchange Commission that there is a lack of current and accurate information concerning the securities of Internal Fixation Systems, Inc. (CIK No. 1501732) (“IFIXQ” ¹), a dissolved Florida corporation with its principal place of business listed as South Miami, Florida, with stock quoted on OTC Link (previously, “Pink Sheets”) operated by OTC Markets Group Inc., because it has not filed any periodic reports since the period ended June 30, 2012. On April 28, 2015, a delinquency letter was sent by the Division of Corporation Finance to IFIXQ at the address shown in its then-most recent Commission filing requesting compliance with its periodic reporting obligations, but it did not receive the delinquency letter due to its failure to maintain a valid address on file with the Commission as required by Commission rules (Rule 301 of Regulation S-T, 17 CFR 232.301 and Section 5.4 of the EDGAR Filer Manual).

¹ The short form of the issuer's name is also its ticker symbol.

The Commission is of the opinion that the public interest and the protection of investors require a suspension of trading in the securities of the above-named company. Therefore, it is ordered, pursuant to Section 12(k) of the Securities Exchange Act of 1934, that trading in the securities of the above-named company is suspended for the period from 9:30 a.m. EDT on August 18, 2015, through 11:59 p.m. EDT on August 31, 2015.

By the Commission.
Robert Errett,
Deputy Secretary.

[FR Doc. 2015-20684 Filed 8-18-15; 4:15 pm]

BILLING CODE 8011-01-P